NUCLEAR REGULATORY COMMISSION

[Docket Nos. 52-12-COL and 52-13-COL; ASLBP No. 09-885-08-COL-BD01]

Atomic Safety and Licensing Board; In the Matter of Nuclear Innovation North America LLC (South Texas Project Units 3 and 4); Notice of Hearing (Application for Combined Licenses)

November 6, 2013.

Before Administrative Judges: Michael M. Gibson, Chairman, Dr. Gary S. Arnold, Dr. Randall J. Charbeneau.

The Atomic Safety and Licensing Board hereby gives notice that it has rescheduled the evidentiary hearing to receive testimony and exhibits in a contested portion of this proceeding regarding the application of Nuclear Innovation North America LLC (NINA) for combined licenses that would authorize NINA to construct and operate two new nuclear reactor units on an existing site near Bay City, Texas.¹

¹ The evidentiary hearing was originally scheduled to begin on October 16, 2013, at the United States District and Bankruptcy Courthouse, Courtroom 11B, 515 Rusk Avenue, Houston, TX 77002. However, due to the lapse of federal funding and resulting government shutdown, that hearing was postponed. This order is rescheduling that postponed hearing.

A. Matters To Be Considered at Evidentiary Hearing

This evidentiary hearing will concern contention FC-1, which alleges that statutory and regulatory prohibitions on foreign ownership, control, and domination forbid the licensing of proposed STP Units 3 and 4.

B. Date, Time, and Location of Evidentiary Hearing

The Board will conduct this evidentiary hearing² beginning at 9:00 a.m., Central Standard Time (CST) on Monday, January 6, 2014, at the Fourteenth Court of Appeals, 301 Fannin, Room 245, Houston, TX 77002. The hearing will continue on Tuesday, January 7, 2014, until 12:00 p.m. CST if necessary. It will be conducted in accordance with 10 CFR part 2, Subpart L.

² NINA, the NRC Staff, and Intervenors will be parties to the hearing and will present witnesses and evidentiary material.

Any members of the public who plan to attend the evidentiary hearing are advised that security measures are employed at the entrance to the courthouse, including searches of hand carried items such as briefcases or backpacks.

Some of the evidence necessary to resolve this contention implicates business information that NINA deems confidential. Although the Board anticipates that most of this hearing will be open to the public, at least a portion of this hearing will be closed to the public. The parties have further agreed that if the Board is unable to complete this hearing before 12:00 p.m. CST on Tuesday, January 7, 2014, it will continue any remaining non-public portions of the hearing at the office of Morgan, Lewis & Bockius, 1000 Louisiana St., Suite 4000, Houston, TX 77002.

C. Submitting Written Limited Appearance Statements

As provided in 10 CFR 2.315(a), any person (other than a party or the representative of a party to this proceeding) may submit a written statement setting forth his or her position on matters of concern relating to this proceeding. Although these statements do not constitute testimony or evidence, they nonetheless may help the Board or the parties in their consideration of the issues in this proceeding.

Such a written limited appearance statement may be submitted at any time and should be sent to the Office of the Secretary using one of the methods prescribed below:

Mail: Office of the Secretary, Rulemakings and Adjudications Staff, U.S. Nuclear Regulatory Commission, Washington, DC 20555-0001,

Fax: (301) 415-1101 (verification (301) 415-1966),

Email: hearingdocket@nrc.gov.

In addition, using the same method of service, a copy of the written limited appearance statement should be sent to the Chairman of this Licensing Board as follows:

Mail: Administrative Judge Michael M. Gibson, Atomic Safety and Licensing Board Panel, Mail Stop T-3 F23, U.S. Nuclear Regulatory Commission, Washington, DC 20555-0001,

Fax: (301) 415-5599 (verification (301) 415-7332),

Email: Michael.Gibson@nrc.gov and Carter.Thurman@nrc.gov.

D. Availability of Documentary Information Regarding the Proceeding

NINA's application and various Staff documents relating to the application are available on the NRC Web site at http://www.nrc.gov/reactors/new-reactors/col/south-texas-project.html.

These and other documents relating to this proceeding are available for public inspection at the Commission's Public Document Room, located at One White Flint North, 11555 Rockville Pike (first floor), Rockville, MD 20852, or electronically from the publicly available records component of NRC's document system (ADAMS). ADAMS is accessible from the NRC Web site at www.nrc.gov/reading-rm/adams.html (the Public Electronic Reading Room). Persons who do not have access to ADAMS or who encounter problems in accessing the documents located in ADAMS should contact the NRC Public Document Room reference staff by telephone at (800) 397-4209 or (301) 415-4737 (available between 8:00 a.m. and 4:00 p.m., Eastern Time (ET), Monday through Friday except federal holidays), or by email to pdr@nrc.gov.

It is so ordered.

For the Atomic Safety and Licensing Board. Rockville, Maryland.
Dated: November 6, 2013.
Michael M. Gibson,
Chairman, Administrative Judge.

[FR Doc. 2013-27145 Filed 11-12-13; 8:45 am]

BILLING CODE 7590-01-P